DEPARTMENT OF HEALTH AND HUMAN SERVICES

Centers for Disease Control and Prevention

[Docket Number NIOSH-104]

Notice of Public Meeting; “Safety and Health in the Horse Racing Industry and Best Practices”

AGENCY: National Institute for Occupational Safety and Health (NIOSH) of the Centers for Disease Control and Prevention (CDC), Department of Health and Human Services (HHS).

Meeting Date and Time: May 22, 2007, 9 a.m.-5 p.m. EDT.

Place: Hyatt Regency Crystal City at Reagan National Airport, 2799 Jefferson Davis Highway, Arlington, VA 22202, telephone (703) 418-1234.

SUMMARY: The National Institute for Occupational Safety and Health (NIOSH) announces the opportunity for the public to provide input regarding issues related to safety and health in the horse racing industry and best practices. These comments may help to shape proposed future activities by NIOSH. The public meeting will be held on May 22, 2007 at the Hyatt Regency Crystal City at Reagan National Airport, 2799 Jefferson Davis Highway, Arlington, VA 22202.

An opportunity to make oral presentations will be provided to interested parties given available time on the agenda. Requests to make such presentations at the meeting should be made by e-mail to khendricks@cdc.gov. All requests to present should include the name, address, telephone number, relevant business affiliations of the presenter, and a brief summary of the presentation. All requests for oral presentation must be received by May 7, 2007. All comments should be submitted to the NIOSH Docket Office.

Status: Open to the public, limited by space available. The meeting room accommodates approximately 40 people.

Address: Written comments on issues related to safety and health in the horse racing industry should be mailed to: NIOSH Docket Office, Robert A. Taft Laboratories, M/S C34, 4676 Columbia Parkway, Cincinnati, Ohio 45226, Telephone 513-533-8303, Fax 513-533-8285. Comments may also be submitted by e-mail to niocindocket@cdc.gov. E-mail attachments should be formatted in Microsoft Word. All comments should be submitted to NIOSH no later than June 22, 2007 and must reference the Docket Number (NIOSH 104) in the subject heading.

Contact Person for Additional Information: Kitty Hendricks, Research Epidemiologist, Surveillance and Field Investigations Branch, Division of Safety Research, Telephone 304-285-6252.

Dated: April 18, 2007.
James D. Seligman,
Chief Information Officer, Centers for Disease Control and Prevention.

[FR Doc. E7-7855 Filed 4-24-07; 8:45 am]

BILLING CODE 4163-19-P